DEPARTMENT OF AGRICULTURE

Forest Service

Notice of Proposed New Fee Site; Federal Lands Recreation Enhancement Act, (Title VIII, Pub. L. 108-447)

AGENCY: Uinta-Wasatch-Cache National Forest, USDA Forest Service.

ACTION: Notice of proposed new fee site.

SUMMARY: The Uinta-Wasatch-Cache National Forest, Salt Lake Ranger District, is proposing the following sites as standard-amenity fee sites under the authority of the Federal Lands Recreation Enhancement Act. The sites are all located in Big and Little Cottonwood Canyons and include Mill B South trailhead, Cardiff/Mill D South trailhead, Donut Falls trailhead, Silver Laker recreation complex, Spruces winter trailhead, Guardsman Pass trailhead, Temple Quarry trailhead and interpretive site, White Pine trailhead, Catherine's Pass trailhead, and Cecret Lake trailhead. The use site fee would be $6 for a 3-day pass and $45 for a Cottonwood Canyons annual pass. The “America the Beautiful” Interagency Passes would be honored at each site. Passes sold would be valid for all sites listed above. Cottonwood Canyon passes would be also be valid at the American Fork Canyon and Mirror Lake Scenic Byway standard-amenity fee sites. The American Fork Canyon and Mirror Lake Scenic Byway day and annual passes would be honored at the proposed sites in the Cottonwood Canyons. Fees collected at the proposed sites would be used to improved recreation site facilities, maintenance, and operations in the Cottonwood Canyons. Fees are assessed based on the level of amenities and services provided, cost of operations and maintenance, and market assessment. The fee is proposed and will be determined upon further analysis and public comment.

DATES: Comments will be accepted from May 27, 2016 through September 9, 2016. New fees would begin in June 2017.

ADDRESSES: David Whittekiend, Forest Supervisor, Uinta-Wasatch-Cache National Forest, 857 West South Jordan Parkway, South Jordan, UT 84095.

FOR FURTHER INFORMATION CONTACT: Matt Lane, Salt Lake Ranger District, 801-733-2662, malane@fs.fed.us. Information about proposed fee changes can also be found on the Uinta-Wasatch-Cache National Forest Web site: http://www.fs.usda.gov/uwcnf.

SUPPLEMENTARY INFORMATION: The Federal Recreation Lands Enhancement Act (Title VII, Pub. L. 108-447) directed the Secretary of Agriculture to publish a six month advance notice in the Federal Register whenever new recreation fee areas are established.

Once public involvement is complete, these new fees will be reviewed by a Recreation Resource Advisory Committee prior to a final decision and implementation.

Dated: May 20, 2016.
David Whittekiend,
Forest Supervisor.

[FR Doc. 2016-12573 Filed 5-26-16; 8:45 am]

BILLING CODE 3410-11-P